DEPARTMENT OF THE INTERIOR

Office of the Secretary

Human Capital, Performance and Partnerships; National Invasive Species Council

AGENCY: Office of the Secretary, Interior.

ACTION: Notice of Availability—Draft of the 2008-2012 National Invasive Species Management Plan.

SUMMARY: Pursuant to Executive Order 13112, the National Invasive Species Council (NISC) is announcing the availability of the draft of the 2008-2012 National Invasive Species Management Plan for a 45-day public comment period. The Order established NISC as an inter-agency council to prevent and control invasive species in order to minimize their economic, ecological and human health impacts. The Council, which is co-chaired by the Secretaries of Agriculture, Commerce and the Interior also includes the Departments of State, Defense, Transportation, Homeland Security, Treasury, Health and Human Services, as well as the Environmental Protection Agency, the U.S. Trade Representative, the U.S. Agency for International Development and the National Aeronautics and Atmospheric Administration. The Plan is intended to address invasive species in the areas of prevention, early detection and rapid response, control, restoration and organizational collaboration. Text of the 2008-2012 National Invasive Species Management Plan is available in PDF format at www.invasivespeciesinfo.gov.

DATES: All comments must be received by close of business on February 11, 2008.

ADDRESSES: National Invasive Species Council, Office of the Secretary, 1849 C Street, NW., Washington, DC 20240.

FOR FURTHER INFORMATION CONTACT: Kelsey Brantley, National Invasive Species Council Senior Program Analyst: E-mail: Kelsey_Brantley@ios.doi.gov; Phone: 202-513-7243; Fax: (202) 371-1751.

SUPPLEMENTARY INFORMATION: Executive Order 13112 on Invasive Species (EO 13112) was issued in 1999 and established the National Invasive Species Council (NISC) which is co-chaired by the Secretaries of the Interior, Agriculture and Commerce. EO 13112 directed the Secretary of the Interior to establish an Invasive Species Advisory Committee (ISAC) composed of diverse nonfederal stakeholders to advise NISC. The broad mission of NISC is to provide planning, coordination and national leadership to prevent and control the harmful impacts of invasive species to the economy, the environment as well as animal and human health.

Section 5 of EO 13112 directed NISC to issue the National Invasive Species Management Plan, as well as to revise and update the Plan on a regular basis. The first version of the National Invasive Species Management Plan, “Meeting the Challenge”, was issued in January of 2001 (2001 Plan). The purpose of the Plan was to provide a general blueprint for federal action in coordination with State, local, Tribal, and private programs and international cooperation to prevent the introduction of invasive species, provide for their control and minimize the economic, environmental and human health impacts.

This document is the first revision of the 2001 Plan, as mandated by EO 13112. The 2008-2012 National Invasive Species Management Plan (2008 Plan) will provide direction for Federal efforts (including overall strategy and objectives) to prevent, control and minimize invasive species and their impacts within the next five (5) fiscal years (2008 through 2012). If necessary, it may be updated more frequently to reflect changes in circumstances, agency plans and priorities. NISC member agencies, ISAC members, NISC staff, stakeholders and other experts have provided input in drafting this revision, which is intended to replace the 2001 Plan.

Federal, State, local and Tribal governments, as well as the private sector, have taken significant steps to meet the challenges posed by invasive species. These steps set the stage for the 2008 Plan and provide direction and focus. An estimated 67% of the 2001 Plan's 57 action items have been completed or are in progress. However significant challenges remain and much remains to be done to prevent and control invasive species in a coordinated and cost efficient manner. Long-range strategic planning, consistent with other government agencies' strategic plans is necessary to address complex invasive species issues. The 2008 Plan establishes five, long-term Strategic Goals that focus Federal efforts in the areas of invasive species work related to:

(1) Prevention;

(2) Early Detection and Rapid Response;

(3) Control and Management;

(4) Restoration; and

(5) Organizational Collaboration.

The Strategic Goals are ongoing and serve as guideposts for managing invasive species. Each Strategic Goal has an associated Strategic Action Plan with long-term Objectives and shorter-term Implementation Tasks and Performance Elements. Where practicable, Implementation Tasks define specific Performance Elements that can be used to gauge progress. Work in Research, Information and Data Management and International Cooperation (which were addressed in separate sections in the 2001 Plan) are elements critical to achieving each of the five Strategic Goals and are included in the pertinent sections of the 2008 Plan.

The 2008 Plan is not a comprehensive list of all Federal invasive species actions. It is a targeted set of priority Strategic Action Plans and Objectives that are intended to be completed in the next five years. The accomplishment of specific Implementation Tasks and Performance Elements will be dependent upon agency budgets, and in some cases, legal or regulatory changes.

Invasive species issues cannot be addressed by Federal programs and actions alone. As reflected in EO 13112, State, local, Tribal and private programs and policies are critical to success. Therefore, receiving public comment on this proposed 2008 Plan is an important component of any strategy to address and reduce the harmful impacts of invasive species.

Submitting Comments: Text of the 2008-2012 National Invasive Species Management Plan is available in PDF format at www.invasivespeciesinfo.gov. Printed copies of the Plan may be obtained by mail or e-mail request to the address below.

Written comments should be addressed to Lori Williams, NISC Executive Director, U.S. Department of the Interior, Office of the Secretary, National Invasive Species Council (OS/NISC), 1849 C Street, NW., Washington, DC 20240. Comments can also be e-mailed to invasivespecies@ios.doi.gov. In order to be considered, comments must be received by close of business on February 11, 2008.

Dated: December 20, 2007.
Lori C. Williams,
Executive Director.

[FR Doc. E7-25262 Filed 12-27-07; 8:45 am]

BILLING CODE 4310-RK-P